FEDERAL HOUSING FINANCE AGENCY

[No. 2014-N-10]

Federal Home Loan Bank Members Selected for Community Support Review 2014-2015 Review Cycle—3rd Round

AGENCY: Federal Housing Finance Agency.

ACTION: Notice.

SUMMARY: The Federal Housing Finance Agency (FHFA) is announcing the Federal Home Loan Bank (Bank) members it has selected for the 2014-2015 Review Cycle—3rd Round under FHFA's community support requirements regulation. This Notice also prescribes the deadline by which Bank members selected for this review cycle must submit Community Support Statements to FHFA.

DATES: Bank members selected for this review cycle must submit Community Support Statements to FHFA on or before September 25, 2014. Comments on members' community support performance must be submitted to FHFA by the same date.

ADDRESSES: Submit completed Community Support Statements to FHFA by electronic mail at hmgcommunitysupportprogram@fhfa.gov. A member that does not have electronic mail capability may submit the Community Support Statement by fax to 202-649-4130. Comments on members' community support performance should be submitted to FHFA as provided above.

FOR FURTHER INFORMATION CONTACT: Melissa Allen, Principal Program Analyst, at hmgcommunitysupportprogram@fhfa.gov or 202-658-9266, Office of Housing and Regulatory Policy, Division of Housing Mission and Goals, Federal Housing Finance Agency, Ninth Floor, 400 Seventh Street SW., Washington, DC 20024.

SUPPLEMENTARY INFORMATION:

I. Selection for Community Support Review

Section 10(g)(1) of the Federal Home Loan Bank Act (Bank Act) requires FHFA to promulgate regulations establishing standards of community investment or service that Bank members must meet in order to maintain access to long-term Bank advances. See 12 U.S.C. 1430(g)(1). The regulations promulgated by FHFA must take into account factors such as the Bank member's performance under the Community Reinvestment Act of 1977 (CRA), 12 U.S.C. 2901 et seq., and the Bank member's record of lending to first-time homebuyers. See 12 U.S.C. 1430(g)(2). Pursuant to section 10(g) of the Bank Act, FHFA has promulgated a community support requirements regulation that establishes standards a Bank member must meet in order to maintain access to long-term advances, and establishes review criteria FHFA must apply in evaluating a member's community support performance. See 12 CFR part 1290. The regulation includes standards and criteria for the two statutory factors—members' CRA performance and members' record of lending to first-time homebuyers. 12 CFR 1290.3. Only members subject to the CRA must meet the CRA standard. 12 CFR 1290.3(b). All members subject to community support review, including those not subject to the CRA, must meet the first-time homebuyer standard. 12 CFR 1290.3(c). Members that have been certified as community development financial institutions (CDFIs) are deemed to be in compliance with the community support requirements and are not subject to periodic community support review, unless the CDFI member is also an insured depository institution or a CDFI credit union. 12 CFR 1290.2(e).

Under the regulation, FHFA selects approximately one-eighth of the members in each Bank district for community support review each calendar quarter. 12 CFR 1290.2(a). FHFA will not review an institution's community support performance until it has been a Bank member for at least one year. Selection for review is not, nor should it be construed as, any indication of either the financial condition or the community support performance of the member. On or before August 26, 2014, each Bank will notify the members in its district that have been selected for this review cycle that they must complete and submit Community Support Statements to FHFA by the deadline prescribed in this Notice. 12 CFR 1290.2(b)(2)(i). The member's Bank will provide a blank Community Support Statement Form (OMB No. 2590-0005), which also is available on FHFA's Web site: http://www.fhfa.gov/webfiles/2924/FHFAForm060.pdf. Upon request, the member's Bank also will provide assistance in completing the Community Support Statement. Each Bank member selected for this review cycle must complete the Community Support Statement and submit it to FHFA by the deadline prescribed in this Notice. 12 CFR 1290.2(b)(1)(ii) and (c).

FHFA has selected the following members for this review cycle:

Federal Home Loan Bank of Boston—District 1
07825 | Northwest Community Bank | Winsted | Connecticut.
09261 | Bar Harbor Bank and Trust | Bar Harbor | Maine.
03786 | First Federal Savings and Loan Association of Bath | Bath | Maine.
09393 | Camden National Bank | Camden | Maine.
03995 | Aroostook County Federal Savings & Loan Association | Caribou | Maine.
08510 | Kennebunk Savings Bank | Kennebunk | Maine.
03844 | Kennebec Federal Savings and Loan Association | Waterville | Maine.
08433 | First Trade Union Bank | Boston | Massachusetts.
09312 | Boston Private Bank & Trust Company | Boston | Massachusetts.
14455 | Cambridge Savings Bank | Cambridge | Massachusetts.
08340 | Clinton Savings Bank | Clinton | Massachusetts.
08478 | Eagle Bank | Everett | Massachusetts.
00544 | Foxboro Federal Savings | Foxboro | Massachusetts.
06286 | Colonial Co-Operative Bank | Gardner | Massachusetts.
08732 | Georgetown Bank | Georgetown | Massachusetts.
08328 | Hingham Institution for Savings | Hingham | Massachusetts.
14281 | PeoplesBank | Holyoke | Massachusetts.
14252 | Northampton Cooperative Bank | Northampton | Massachusetts.
01673 | Colonial Federal Savings Bank | Quincy | Massachusetts.
14595 | Reading Co-Operative Bank | Reading | Massachusetts.
08076 | Saugusbank, A Cooperative Bank | Saugus | Massachusetts.
01452 | Middlesex Federal Savings, F.A. | Somerville | Massachusetts.
07953 | Spencer Savings Bank | Spencer | Massachusetts.
14803 | Mechanics' Co-Operative Bank | Taunton | Massachusetts.
13771 | The Savings Bank | Wakefield | Massachusetts.
03997 | Federal Savings Bank | Dover | New Hampshire.
08488 | Franklin Savings Bank | Franklin | New Hampshire.
08416 | Northfield Savings Bank | Northfield | Vermont.
Federal Home Loan Bank of New York—District 2
01098 | Audubon Savings Bank | Audubon | New Jersey.
02319 | Kearny Federal Savings Bank | Fairfield | New Jersey.
02195 | GSL Savings Bank | Guttenberg | New Jersey.
02246 | Glen Rock Savings Bank | Hawthorne | New Jersey.
09315 | Amboy Bank | Old Bridge | New Jersey.
04612 | Roma Bank | Robbinsville | New Jersey.
00940 | GCF Bank | Sewell | New Jersey.
01437 | OceanFirst Bank | Toms River | New Jersey.
02519 | Oritani Bank | Township of Washington | New Jersey.
05322 | Century Savings Bank | Vineland | New Jersey.
09221 | Canandaigua National Bank and Trust Company | Canandaigua | New York.
10436 | Glens Falls National Bank and Trust Company | Glens Falls | New York.
13454 | Evans Bank | Hamburg | New York.
01899 | Maple City Savings Bank, FSB | Hornell | New York.
14283 | Cattaraugus County Bank | Little Valley | New York.
13866 | The Lyons National Bank | Lyons | New York.
05323 | Massena Savings & Loan | Massena | New York.
05066 | Cross County Federal Savings Bank | Middle Village | New York.
05190 | Provident Bank | Montebello | New York.
14486 | The Berkshire Bank | New York | New York.
02528 | Wallkill Valley FS&LA | Wallkill | New York.
14115 | Five Star Bank | Warsaw | New York.
07034 | Oriental Bank & Trust | San Juan | Puerto Rico.
Federal Home Loan Bank of Pittsburgh—District 3
04776 | Reliance Bank | Altoona | Pennsylvania.
08887 | The Bryn Mawr Trust Company | Bryn Mawr | Pennsylvania.
09362 | Nextier Bank, N.A. | Butler | Pennsylvania.
53110 | Clarion County Community Bank | Clarion | Pennsylvania.
07703 | Slovenian S&LA of Franklin-Conemaugh | Conemaugh | Pennsylvania.
03218 | Polonia Bank | Huntingdon Valley | Pennsylvania.
09252 | Mauch Chunk Trust Company | Jim Thorpe | Pennsylvania.
09836 | First Citizens National Bank | Mansfield | Pennsylvania.
09066 | The First National Bank of Mifflintown | Mifflintown | Pennsylvania.
04395 | First Federal Savings Bank | Monessen | Pennsylvania.
14414 | Community State Bank of Orbisonia | Orbisonia | Pennsylvania.
04543 | Prudential Savings Bank | Philadelphia | Pennsylvania.
09822 | Republic Bank | Philadelphia | Pennsylvania.
14407 | Beneficial Mutual Savings Bank | Philadelphia | Pennsylvania.
00234 | West View Savings Bank | Pittsburgh | Pennsylvania.
00962 | Eureka Bank | Pittsburgh | Pennsylvania.
05325 | Slovak Savings Bank | Pittsburgh | Pennsylvania.
10483 | United-American Savings Bank | Pittsburgh | Pennsylvania.
12884 | Hamlin Bank and Trust Company | Smethport | Pennsylvania.
13018 | Eagle National Bank | Upper Darby | Pennsylvania.
01067 | Northwest Savings Bank | Warren | Pennsylvania.
03586 | Washington Financial Bank | Washington | Pennsylvania.
02190 | First Federal Savings & Loan Association of Greene County | Waynesburg | Pennsylvania.
09808 | Peoples State Bank of Wyalusing | Wyalusing | Pennsylvania.
09875 | VIST Bank | Wyomissing | Pennsylvania.
11051 | City National Bank of West Virginia | Cross Lanes | West Virginia.
09461 | United Bank, Inc. | Parkersburg | West Virginia.
Federal Home Loan Bank of Atlanta—District 4
09285 | Exchange Bank of Alabama | Altoona | Alabama.
09282 | Central State Bank | Calera | Alabama.
12388 | Camden National Bank | Camden | Alabama.
12700 | First National Bank | Hamilton | Alabama.
07228 | Security Federal Savings Bank | Jasper | Alabama.
12638 | FirstState Bank | Lineville | Alabama.
14558 | First Citizens Bank | Luverne | Alabama.
10482 | The Slocomb National Bank | Slocomb | Alabama.
14631 | Bank of Wedowee | Wedowee | Alabama.
14111 | Mercantile Commercebank, National Association | Coral Gables | Florida.
12209 | Natbank, N.A. | Hollywood | Florida.
13362 | First State Bank of the Florida Keys | Key West | Florida.
06859 | Urban Trust Bank | Lake Mary | Florida.
14551 | Wauchula State Bank | Wauchula | Florida.
14550 | Bank of Alapaha | Alapaha | Georgia.
11925 | Bank of Camilla | Camilla | Georgia.
14991 | The Claxton Bank | Claxton | Georgia.
03575 | Newton Federal Bank | Covington | Georgia.
14607 | Bank of Eastman | Eastman | Georgia.
14826 | Farmers and Merchants Bank | Eatonton | Georgia.
14472 | Capital Bank | Fort Oglethorpe | Georgia.
13480 | BankSouth | Greensboro | Georgia.
14287 | Farmers State Bank | Lincolnton | Georgia.
14483 | Peoples Bank | Lyons | Georgia.
13899 | Mount Vernon Bank | Mt. Vernon | Georgia.
10640 | Farmers and Merchants Bank | Statesboro | Georgia.
14832 | Spivey State Bank | Swainsboro | Georgia.
08190 | Severn Savings Bank, FSB | Annapolis | Maryland.
08148 | Saint Casimirs Savings Bank | Baltimore | Maryland.
08186 | Presidential Bank, FSB | Bethesda | Maryland.
14724 | Peoples Bank (The) | Chestertown | Maryland.
14112 | Easton Bank and Trust Company | Easton | Maryland.
08183 | Eastern Savings Bank, FSB | Hunt Valley | Maryland.
05740 | First Shore Federal Savings and Loan Association | Salisbury | Maryland.
10510 | High Point Bank & Trust Company | High Point | North Carolina.
09555 | RBC Bank | Raleigh | North Carolina.
00007 | Piedmont Federal Savings Bank | Winston Salem | North Carolina.
12045 | Branch Banking and Trust Company | Winston Salem | North Carolina.
14489 | First State Bank | Danville | Virginia.
03993 | First Federal Savings Bank of Virginia | Petersburg | Virginia.
14157 | The Bank of Charlotte County | Phenix | Virginia.
14686 | Valley Bank | Roanoke | Virginia.
Federal Home Loan Bank of Cincinnati—District 5
15905 | Kentucky Home Bank, Inc. | Bardstown | Kentucky.
10546 | Bank of Edmonson County | Brownsville | Kentucky.
09331 | Citizens Bank & Trust Company | Campbellsville | Kentucky.
04069 | Carrollton Federal Bank | Carrollton | Kentucky.
09934 | First National Bank of Muhlenburg County | Central City | Kentucky.
15829 | Bank of Clarkson | Clarkson | Kentucky.
09453 | Citizens National Bank | Lebanon | Kentucky.
06586 | Home Federal Bank Corporation | Middlesboro | Kentucky.
06902 | First Federal Savings & Loan Association of Morehead | Morehead | Kentucky.
06591 | Commonwealth Bank | Mt. Sterling | Kentucky.
10648 | Traditional Bank, Inc. | Mt. Sterling | Kentucky.
14495 | Citizens Bank | Mt. Vernon | Kentucky.
01411 | Belmont Savings Bank | Bellaire | Ohio.
08897 | The Citizens National Bank of Bluffton | Bluffton | Ohio.
02076 | The Brookville Building and Savings Association | Brookville | Ohio.
04132 | Peoples Savings and Loan Company | Bucyrus | Ohio.
01158 | Warsaw Federal Savings and Loan Association of Cincinnati | Cincinnati | Ohio.
08122 | New Foundation Savings Bank | Cincinnati | Ohio.
14762 | Ohio Heritage Bank | Coshocton | Ohio.
04192 | First Federal Bank of the Midwest | Defiance | Ohio.
00641 | Greenville Federal | Greenville | Ohio.
08527 | NCB, FSB | Hillsboro | Ohio.
01639 | Liberty Federal Savings Bank | Ironton | Ohio.
04984 | Hometown Bank | Kent | Ohio.
03681 | The Home Savings and Loan Company of Kenton Ohio | Kenton | Ohio.
03536 | First Federal Savings and Loan Association of Lakewood | Lakewood | Ohio.
00311 | Fairfield Federal Savings and Loan Association of Lancaster | Lancaster | Ohio.
08805 | 1st National Bank | Lebanon | Ohio.
09224 | The Citizens Bank of Logan Ohio | Logan | Ohio.
11091 | The Park National Bank | Newark | Ohio.
12609 | American Savings Bank, fsb | Portsmouth | Ohio.
10461 | The Citizens Banking Company | Sandusky | Ohio.
09776 | Sherwood State Bank (The) | Sherwood | Ohio.
01830 | Home City Federal Savings Bank | Springfield | Ohio.
03692 | Monroe Federal Savings and Loan Association | Tipp City | Ohio.
04893 | Home Savings Bank | Wapakoneta | Ohio.
08120 | Adams County Building and Loan Company | West Union | Ohio.
15598 | North Valley Bank | Zanesville | Ohio.
10508 | Bank of Bartlett | Bartlett | Tennessee.
15771 | First South Financial Credit Union | Bartlett | Tennessee.
09294 | F&M Bank | Clarksville | Tennessee.
09136 | The Farmers & Merchants Bank | Dyer | Tennessee.
10429 | First Citizens National Bank | Dyersburg | Tennessee.
04307 | Elizabethton Federal Savings Bank | Elizabethton | Tennessee.
15743 | The Bank of Jackson | Jackson | Tennessee.
03879 | Home Federal Bank of Tennessee | Knoxville | Tennessee.
10678 | Citizens Bank | New Tazewell | Tennessee.
14045 | TNBANK | Oak Ridge | Tennessee.
Federal Home Loan Bank of Indianapolis—District 6
15830 | Independent Federal Credit Union | Anderson | Indiana.
04091 | Peoples Federal Savings Bank | Auburn | Indiana.
01669 | Farmers and Mechanics FS&LA | Bloomfield | Indiana.
09392 | The First State Bank | Bourbon | Indiana.
02838 | First Federal Savings Bank of Evansville | Evansville | Indiana.
10005 | La Porte Savings Bank | La Porte | Indiana.
02578 | Security Federal Savings Bank | Logansport | Indiana.
04255 | Home Bank, SB | Martinsville | Indiana.
14637 | The First National Bank of Monterey | Monterey | Indiana.
00210 | Mutual Bank | Muncie | Indiana.
11365 | First Merchants Bank, N.A. | Muncie | Indiana.
03589 | Peoples Bank SB | Munster | Indiana.
04247 | American Savings, FSB | Munster | Indiana.
04817 | Mid-Southern Savings Bank, FSB | Salem | Indiana.
08907 | Owen County State Bank | Spencer | Indiana.
08814 | First Financial Bank | Terre Haute | Indiana.
14515 | Bank of Wolcott | Wolcott | Indiana.
13502 | Commercial Bank | Alma | Michigan.
06210 | First Federal of Northern Michigan First Federal of Northern Michigan | Alpena | Michigan.
14326 | Tri-County Bank | Brown City | Michigan.
04194 | Eaton Federal Savings Bank | Charlotte | Michigan.
10657 | Hastings City Bank | Hastings | Michigan.
13140 | Thumb National Bank & Trust | Pigeon | Michigan.
10710 | Kalamazoo County State Bank | Schoolcraft | Michigan.
11319 | First National Bank of St. Ignace | St. Ignace | Michigan.
05926 | Northwestern Bank | Traverse City | Michigan
Federal Home Loan Bank of Chicago—District 7
10320 | First Community Bank and Trust | Beecher | Illinois.
02402 | BankFinancial, FSB | Olympia Fields | Illinois.
12862 | Farmers State Bank of Camp Point | Camp Point | Illinois.
01611 | First Federal Savings Bank of Champaign-Urbana | Champaign | Illinois.
00529 | Central Federal Savings & Loan Association of Chicago | Chicago | Illinois.
01330 | Mutual Federal Bank | Chicago | Illinois.
12269 | Washington Federal Bank for Savings | Chicago | Illinois.
14477 | Oak Bank | Chicago | Illinois.
14792 | Hickory Point Bank & Trust, FSB | Decatur | Illinois.
14726 | Community Bank Wheaton/Glen Ellyn | Glen Ellyn | Illinois.
12925 | Glenview State Bank | Glenview | Illinois.
14883 | The Granville National Bank | Granville | Illinois.
14882 | The Bradford National Bank of Greenville | Greenville | Illinois.
13778 | The Havana National Bank | Havana | Illinois.
12944 | Herrin Security Bank | Herrin | Illinois.
05564 | South End Savings, s.b. | Homewood | Illinois.
01520 | Eureka Savings Bank | LaSalle | Illinois.
12436 | First State Bank of Illinois | LaHarpe | Illinois.
12841 | First National Bank of Illinois | Lansing | Illinois.
14902 | The First National Bank of Litchfield | Litchfield | Illinois.
14884 | West Suburban Bank | Lombard | Illinois.
14074 | First Security Bank | Mackinaw | Illinois.
14261 | 1st State Bank of Mason City | Mason City | Illinois.
12180 | First National Bank | Moline | Illinois.
12660 | Wheaton Bank & Trust Company | Wheaton | Illinois.
14248 | Illini State Bank | Oglesby | Illinois.
13396 | Herget Bank, National Association | Pekin | Illinois.
13012 | National Bank of Petersburg | Petersburg | Illinois.
12976 | The Poplar Grove State Bank | Poplar Grove | Illinois.
14330 | Citizens First National Bank | Princeton | Illinois.
15024 | Marine Bank | Springfield | Illinois.
14534 | The International Bank of Amherst | Amherst | Wisconsin.
10444 | Community First Bank | Boscobel | Wisconsin.
14441 | Bank of Deerfield | Deerfield | Wisconsin.
03069 | Fox Valley Savings Bank | Fond du Lac | Wisconsin.
13009 | PremierBank | Fort Atkinson | Wisconsin.
02945 | PyraMax Bank, FSB | Greenfield | Wisconsin.
02722 | Ladysmith Federal Savings & Loan | Ladysmith | Wisconsin.
04474 | AnchorBank, fsb | Madison | Wisconsin.
05042 | Home Savings Bank | Madison | Wisconsin.
13003 | Markesan State Bank | Markesan | Wisconsin.
09680 | The Peoples Community Bank | Mazomanie | Wisconsin.
11964 | Fidelity National Bank | Medford | Wisconsin.
14174 | Bremer Bank, National Association | Menomonie | Wisconsin.
04783 | Merrill Federal Savings and Loan Association | Merrill | Wisconsin.
14437 | Middleton Community Bank | Middleton | Wisconsin.
04522 | Guaranty Bank, FSB | Milwaukee | Wisconsin.
14582 | Baylake Bank | Sturgeon Bay | Wisconsin.
12942 | The Farmers State Bank of Waupaca | Waupaca | Wisconsin.
01519 | Westbury Bank | West Bend | Wisconsin.
12845 | First Citizens State Bank | Whitewater | Wisconsin.
Federal Home Loan Bank of Des Moines—District 8
15842 | Community Bank | Alton | Iowa
15907 | First National Bank of Ames | Ames | Iowa.
12656 | Community State Bank, N.A. | Ankeny | Iowa.
10514 | Ashton State Bank | Ashton | Iowa.
12602 | Atkins Savings Bank & Trust | Atkins | Iowa.
15545 | Farmers & Traders Savings Bank | Bancroft | Iowa.
12824 | Chelsea Savings Bank | Belle Plaine | Iowa.
09373 | State Central Bank | Bonaparte | Iowa.
12846 | Guaranty Bank & Trust Company | Cedar Rapids | Iowa.
12599 | First Security Bank & Trust Company | Charles City | Iowa.
14795 | Cherokee State Bank | Cherokee | Iowa.
04676 | Cornerstone Bank | Clarinda | Iowa.
14540 | First Trust and Savings Bank | Coralville | Iowa.
10560 | Fidelity Bank & Trust | Dubuque | Iowa.
09324 | Community Savings Bank | Edgewood | Iowa.
10470 | First American Bank | Fort Dodge | Iowa.
14625 | First State Bank | Hawarden | Iowa.
12525 | Farmers & Merchants Savings Bank | Iowa City | Iowa.
12718 | Keystone Savings Bank | Marengo | Iowa.
12600 | Northwestern Bank | Orange City | Iowa.
12611 | Citizens Bank | Sac City | Iowa.
12569 | Solon State Bank | Solon | Iowa.
08567 | Northwest Bank | Spencer | Iowa.
12520 | Reliance State Bank | Story City | Iowa.
11637 | First State Bank | Sumner | Iowa.
10822 | Community State Bank | Tipton | Iowa.
02731 | WCF Financial Bank | Webster City | Iowa.
12815 | Citizens State Bank | Wyoming | Iowa.
15672 | United Farmers State Bank | Adams | Minnesota.
07830 | Viking Savings Bank | Alexandria | Minnesota.
15620 | State Bank of Bellingham | Bellingham | Minnesota.
09196 | First State Bank of Bigfork | Bigfork | Minnesota.
06979 | Brainerd Savings & Loan Association, A Federal Association | Brainerd | Minnesota.
12699 | Deerwood Bank | Deerwood | Minnesota.
12721 | State Bank of Faribault (The) | Faribault | Minnesota.
09141 | Lake Elmo Bank | Lake Elmo | Minnesota.
12948 | Prairie Sun Bank | Milan | Minnesota.
09183 | Foresight Bank | Plainview | Minnesota.
14673 | Minnwest Bank | Redwood Falls | Minnesota.
10527 | First Independent Bank | Russell | Minnesota.
09639 | Highland Bank | Saint Michael | Minnesota.
10083 | First National Bank Minnesota | St. Peter | Minnesota.
14737 | Security State Bank of Wanamingo | Wanamingo | Minnesota.
13039 | Ozark Mountain Bank | Branson | Missouri.
15529 | Horizon State Bank | Cameron | Missouri.
12850 | Rockwood Bank | Eureka | Missouri.
03927 | North American Savings Bank, FSB | Grandview | Missouri.
05608 | F&M Bank and Trust Company | Hannibal | Missouri.
12663 | Blue Ridge Bank & Trust Company | Independence | Missouri.
14456 | Jonesburg State Bank | Jonesburg | Missouri.
02825 | First Federal Bank, F.S.B. | Kansas City | Missouri.
13112 | Bank of New Madrid | New Madrid | Missouri.
00508 | Home Savings & Loan Association of Norborne, F.A. | Norborne | Missouri.
14406 | Ozark Bank | Ozark | Missouri.
05710 | Central Federal Savings and Loan Association of Rolla | Rolla | Missouri.
09737 | Montgomery Bank, N.A. | Sikeston | Missouri.
02096 | Guaranty Bank | Springfield | Missouri.
14898 | Lindell Bank and Trust Company | St. Louis | Missouri.
13727 | Security Bank of Pulaski County | Waynesville | Missouri.
14653 | FMB Bank | Wright City | Missouri.
12769 | Starion Financial | Bismarck | North Dakota.
12753 | Ramsey National Bank | Devils Lake | North Dakota.
10999 | Alerus Financial, N.A. | Grand Forks | North Dakota.
15932 | Bank Forward | Hannaford | North Dakota.
12665 | National Bank of Harvey (The) | Harvey | North Dakota.
15739 | The Goose River Bank | Mayville | North Dakota.
15571 | Horizon Financial Bank | Munich | North Dakota.
14159 | Bryant State Bank | Bryant | South Dakota.
14820 | Quoin Financial Bank | Miller | South Dakota.
15921 | American State Bank | Oldham | South Dakota.
01384 | TCF National Bank | Sioux Falls | South Dakota.
Federal Home Loan Bank of Dallas—District 9
12867 | Southern Bancorp Bank | Arkadelphia | Arkansas.
10113 | First National Banking Company | Ash Flat | Arkansas.
10660 | First Bank | Camden | Arkansas.
07368 | Corning Savings and Loan Association | Corning | Arkansas.
15744 | Merchants and Farmers Bank | Dumas | Arkansas.
14448 | One Bank & Trust, N.A. | Little Rock | Arkansas.
10472 | Farmers Bank & Trust Company | Magnolia | Arkansas.
14755 | Diamond Bank | Murfreesboro | Arkansas.
11025 | Priority Bank | Ozark | Arkansas.
10322 | First National Bank | Paragould | Arkansas.
07756 | United Bank | Springdale | Arkansas.
14694 | Bank of Star City | Star City | Arkansas.
14432 | Citizens Progressive Bank | Columbia | Louisiana.
05195 | Beauregard Federal Savings Bank | DeRidder | Louisiana.
00890 | Home Bank | Lafayette | Louisiana.
00221 | Union Savings and Loan Association | New Orleans | Louisiana.
01355 | Fidelity Homestead Savings Bank | New Orleans | Louisiana.
10529 | BankFirst Financial Services | Macon | Mississippi.
15938 | BNA Bank | New Albany | Mississippi.
05957 | First Federal Savings & Loan Association | Pascagoula | Mississippi.
14695 | Bank of Yazoo City | Yazoo City | Mississippi.
09740 | First American Bank | Artesia | New Mexico
10609 | Western Bank of Clovis | Clovis | New Mexico.
14210 | Community 1st Bank | Las Vegas | New Mexico.
01441 | Century Bank | Santa Fe | New Mexico.
12629 | FirstBank Southwest | Amarillo | Texas.
14544 | Affiliated Bank | Arlington | Texas.
15325 | The First National Bank of Beeville | Beeville | Texas.
11460 | Texas Bank | Brownwood | Texas.
10301 | The First State Bank | Columbus | Texas.
15889 | First Security State Bank | Cranfills Gap | Texas.
01754 | TrustTexas Bank, SSB | Cuero | Texas
03101 | Dalhart Federal Savings and Loan Association, SSB | Dalhart | Texas.
08287 | Southwest Securities, FSB | Dallas | Texas.
10723 | Inwood National Bank | Dallas | Texas.
12333 | Prosperity Bank | El Campo | Texas.
06809 | Colonial Savings, F.A. | Fort Worth | Texas.
13570 | First Command Bank | Fort Worth | Texas.
10765 | National Bank | Gatesville | Texas.
14291 | Happy State Bank | Happy | Texas.
03155 | Henderson Federal Savings Bank | Henderson | Texas.
10628 | Houston Community Bank, N.A. | Houston | Texas.
07624 | Fayette Savings Bank, ssb | La Grange | Texas.
12036 | National Bank & Trust | La Grange | Texas.
10794 | Commerce Bank | Laredo | Texas.
11402 | Texas Bank and Trust Company | Longview | Texas.
14366 | East Texas Professional Credit Union | Longview | Texas.
10810 | Lubbock National Bank | Lubbock | Texas.
14038 | First Bank & Trust Company | Lubbock | Texas.
07743 | Angelina Savings Bank, FSB | Lufkin | Texas.
10223 | First National Bank of Mount Vernon | Mount Vernon | Texas.
14416 | Guaranty Bond Bank | Mt. Pleasant | Texas.
14047 | The Morris County National Bank | Naples | Texas.
12616 | Gulf Coast Educators Federal Credit Union | Pasadena | Texas.
10531 | PointBank | Pilot Point | Texas.
11157 | Pilgrim Bank | Pittsburg | Texas.
10383 | Alliance Bank | Sulphur Springs | Texas.
13007 | The First National Bank of Weatherford | Weatherford | Texas.
10059 | American National Bank | Wichita Falls | Texas.
Federal Home Loan Bank of Topeka—District 10
10282 | Pikes Peak National Bank | Colorado Springs | Colorado.
11057 | Peoples National Bank | Colorado Springs | Colorado.
10478 | Vectra Bank Colorado | Denver | Colorado.
05267 | Gunnison Savings and Loan Association | Gunnison | Colorado.
10577 | Frontier Bank | Lamar | Colorado.
14893 | Colorado East Bank & Trust | Lamar | Colorado.
14678 | Guaranty State Bank & Trust Company | Beloit | Kansas.
10071 | First National Bank in Cimarron | Cimarron | Kansas.
10157 | Farmers Bank & Trust, N.A. | Great Bend | Kansas.
10462 | Central Bank and Trust Company | Hutchinson | Kansas.
08521 | The University National Bank | Lawrence | Kansas.
04492 | Mutual Savings Association, FSA | Leavenworth | Kansas.
04846 | Citizens Savings and Loan Association, fsb | Leavenworth | Kansas.
13277 | First State Bank | Norton | Kansas.
09670 | First Option Bank | Osawatomie | Kansas.
14590 | The Plains State Bank | Plains | Kansas.
10633 | First National Bank of Syracuse | Syracuse | Kansas.
14521 | The Bank of Tescott | Tescott | Kansas.
00670 | Capitol Federal Savings Bank | Topeka | Kansas.
10532 | Silver Lake Bank | Topeka | Kansas.
13030 | Kendall State Bank | Valley Falls | Kansas.
14079 | Bank of Commerce & Trust Company | Wellington | Kansas.
15556 | Impact Bank | Wellington | Kansas.
13071 | Western Heritage Credit Union | Alliance | Nebraska.
14700 | Community Bank | Alma | Nebraska.
14675 | Auburn State Bank | Auburn | Nebraska.
14596 | Bruning State Bank | Bruning | Nebraska.
15723 | Butte State Bank | Butte | Nebraska.
14677 | South Central State Bank | Campbell | Nebraska.
12890 | Clarkson Bank | Clarkson | Nebraska.
12519 | Nebraska Energy Federal Credit Union | Columbus | Nebraska.
12419 | American Interstate Bank | Elkhorn | Nebraska.
13036 | Cedar Security Bank | Fordyce | Nebraska.
14871 | Genoa Community Bank | Genoa | Nebraska.
12901 | Arbor Bank | Nebraska City | Nebraska.
14977 | Enterprise Bank, NA | Omaha | Nebraska.
13933 | Points West Community Bank | Sidney | Nebraska.
14318 | Anadarko Bank and Trust Company | Anadarko | Oklahoma.
14382 | Community Bank | Bristow | Oklahoma.
15380 | Chickasha Bank and Trust Company | Chickasha | Oklahoma.
15563 | First Bank & Trust Company | Clinton | Oklahoma.
14577 | American Bank of Oklahoma | Collinsville | Oklahoma.
10667 | Citizens Bank of Edmond | Edmond | Oklahoma.
14537 | Legacy Bank | Hinton | Oklahoma.
09403 | High Plains Bank | Keyes | Oklahoma.
12091 | City National Bank & Trust Company | Lawton | Oklahoma.
09532 | Republic Bank & Trust | Norman | Oklahoma.
10925 | Community National Bank of Okarche | Okarche | Oklahoma.
09550 | First National Bank in Okeene | Okeene | Oklahoma.
11705 | The Bankers Bank | Oklahoma City | Oklahoma.
12990 | First National Bank of Oklahoma | Oklahoma City | Oklahoma.
09250 | Lakeside State Bank | Oologah | Oklahoma.
10888 | Triad Bank, N.A. | Tulsa | Oklahoma.
Federal Home Loan Bank of San Francisco—District 11
55191 | First Credit Union | Chandler | Arizona.
55206 | First Scottsdale Bank, N.A. | Scottsdale | Arizona.
15557 | National Bank of California | Brentwood | California.
55189 | Logix Federal Credit Union | Burbank | California.
07946 | Pacific Premier Bank | Costa Mesa | California.
17676 | SkyOne Federal Credit Union | Hawthorne | California.
55308 | UNCLE Credit Union | Livermore | California.
15210 | International City Bank | Long Beach | California.
52988 | Pacific Life & Annuity Company | Newport Beach | California.
08804 | Metropolitan Bank | Oakland | California.
07276 | East West Bank | Pasadena | California.
14872 | Community Bank | Pasadena | California.
55269 | E-Central Credit Union | Pasadena | California.
12313 | North Valley Bank | Redding | California.
17736 | The Golden 1 Credit Union | Sacramento | California.
55292 | State Compensation Insurance Fund | San Francisco | California.
06896 | First Federal Savings & Loan Association of San Rafael | San Rafael | California.
07992 | Summit State Bank | Santa Rosa | California.
13441 | CTBC Bank | Torrance | California.
16196 | First Financial Credit Union | West Covina | California.
Federal Home Loan Bank of Seattle—District 12
14722 | First Security Bank | Bozeman | Montana.
10928 | Stockman Bank of Montana | Miles City | Montana.
09184 | Pacific Continental Bank | Eugene | Oregon.
03773 | First Federal Savings & Loan Association | McMinnville | Oregon.
14711 | Albina Community Bank | Portland | Oregon.
09457 | Home Savings Bank | Salt Lake City | Utah.
01625 | Timberland Bank | Hoquiam | Washington.
01265 | Raymond Federal Bank | Raymond | Washington.
02841 | First Savings Bank Northwest | Renton | Washington.

II. Public Comments

To encourage the submission of public comments on the community support performance of Bank members, on or before August 26, 2014, each Bank will notify its Advisory Council, nonprofit housing developers, community groups and other interested parties in its district of the members of the Bank selected for this review cycle. 12 CFR 1290.2(b)(2)(ii). In reviewing a member for community support compliance, FHFA will consider any public comments it has received concerning the member. 12 CFR 1290.2(d). To ensure consideration by FHFA, comments concerning the community support performance of members selected for this review cycle must be submitted to FHFA, either by electronic mail to hmgcommunitysupportprogram@fhfa.gov, or by fax to 202-649-4130, on or before September 25, 2014.

Dated: August 6, 2014.
Melvin L. Watt,
Director, Federal Housing Finance Agency.

[FR Doc. 2014-18977 Filed 8-8-14; 8:45 am]

BILLING CODE 8070-01-P